DEPARTMENT OF AGRICULTURE

Forest Service

Plantation Lakes Project; Ottawa National Forest, Houghton County, Michigan

AGENCY: Forest Service, USDA.

ACTION: Notice of intent to prepare an environmental impact statement.

SUMMARY: The USDA-Forest Service will prepare an Environmental Impact Statement (EIS) for the Plantation Lakes Project to disclose the effects of timber harvest, site preparation for natural and artificial regeneration, planting, road management including: road construction, reconstruction, temporary road construction, obliteration, and motorized vehicle closure; dispersed parking area installation and improvement, trail construction, maintenance of permanent openings for wildlife habitat, and classification of old growth, in the Frost Opportunity Area on the Ontonagon Ranger District, and the Connors, Kenton, Plantation Lakes, and Richard Lake Opportunity Areas on the Kenton Ranger District, located approximately 7 air miles northeast of Kenton, Michigan. The purpose and need for action is to: (1) Promote and maintain processes which would enhance natural species diversity, manage to reduce insect and disease potential below epidemic levels, and decrease fire hazard in the long term while providing a supply of wood products for regional and local needs to help support a stable economic base within the dependent geographical area. (2) Maintain and enhance habitat capable of sustaining long-term populations of a variety of wildlife species. (3) Maintain a road system that allows for management of National Forest lands and provides for public access while meeting other resource needs, and (4) Provide dispersed recreation opportunities to meet public needs.

The DEIS is expected to be filed with the EPA and available for public review by September, 2000.

DATES: Written comments and suggestions should be received on or before June 26, 2000.

ADDRESSES: Written comments and suggestions concerning the scope of the analysis should be sent to Leanne Marten, District Ranger, Ontonagon District, 1209 Rockland Road, Ontonagon, MI 49953.

FOR FURTHER INFORMATION CONTACT: Contact Allen Nicholson, Interdisciplinary Team Leader, Iron River Ranger District, Phone: (906) 265-5139.

SUPPLEMENTARY INFORMATION: The project area contains approximately 17,700 acres within the Ottawa National Forest, Houghton County, Michigan. The legal location of the National Forest lands within the project area are: all or portions of Section 4-10, 15-22, 27-30, 33, T48N R36W; Sections 1, 12, 24, 25, T48N R37W; Sections 29-34, T49N R36W; Sections 22, 23, 26, 27, 34-36, T49N R37W, Michigan Meridian.

The Forest Service proposes to harvest approximately 111,000 hundred cubic feet (equivalent to approximately 60 million board feet, MMBF) of timber through a variety of harvest methods on approximately 7,080 acres of forest land. Silviculture systems include approximately 1830 acres of salvage-modified clearcut, 1070 acres of salvage/sanitation harvest, 3,250 acres of selection harvest, 200 acres of shelterwood preparation harvest, and 730 acres of commercial thinning. Connected actions include: approximately 2120 acres of mechanical site preparation for natural and artificial regeneration, and supplemental planting on approximately 140 acres. An estimated 2.5 miles of new system road construction, 8.0 miles of system road reconstruction, and 4.0 miles of temporary road construction would be needed to access timber harvest areas. Temporary roads would be evaluated based on the proposed national transportation policy and would be either obliterated following completion of sale activities or added to the classified road system in the Maintenance Level 1 closed category. The proposal also includes an estimated 3.5 miles of system road decommissioning, permanent closure or obliteration of approximately 16 miles of unclassified roads currently closed, and permanent closure or obliteration of approximately 7.5 miles of unclassified roads currently open. Approximately 0.5 additional miles of Forest Road 1338, currently open, would be managed as closed to highway vehicles. A dispersed parking/camping area would be provided at this new road closure. Approximately 400 feet of new trail and a canoe access at Echo Lake would be constructed, about 100 feet of trail would be resurfaced at Penegor Lake, and improvements made to small parking areas at Penegor and Echo Lakes.

The proposal also includes maintaining approximately 110 acres of permanent openings for wildlife habitat and the classification of approximately 1660 acres of old growth.

The Ottawa Forest Plan provides guidance for management activities within the potentially affected area through its goals, objectives, standards and guidelines, and management area direction. The proposed projects include activities in management areas (MAs) 1.1,2.1,3.1, and 4.1. This proposal includes 11 openings greater than 40 acres (size range is approximately 50 to 480 acres), to treat high-risk stands of jack pine (Regional Forester approval for exceeding the forty acre regeneration and salvage/sanitation harvest would be required prior to signing the Record of Decision).

Range of Alternatives

The Forest Service will consider a range of alternatives. One of these will be the “no action” alternative in which none of the proposed activities will be implemented. Additional alternatives will examine varying levels and locations for the proposed activities to achieve the proposal's purposes, as well as to respond to the issues and other resource values.

The EIS will analyze the direct, indirect, and cumulative environmental effects of the alternatives. Past, present, and projected activities on both private and National Forest lands will be considered. The EIS will disclose site-specific mitigation measures, if needed, and their effectiveness.

Preliminary Issues

Tentatively, several preliminary issues of concern have been identified. These issues are briefly described below:

Transportation System: Implementation of the proposed action would permanently close or obliterate roads not needed for the transportation system, and manage an additional segment of road as closed to some types of motorized use. This may affect the public's ability to use traditional access routes.

Vegetation: There are large areas of mature and declining jack pine that are at high risk of loss to insects, disease, or fire. When proposed harvest areas are added to adjacent recently harvested areas (10-15 years ago) several temporary open areas exceeding 40 acres will be created.

Canada Lynx: Effective April 24, 2000, the lynx was listed as a threatened species by the US Fish and Wildlife Service. The lynx will be addressed in the EIS.

Decisions To Be Made

The Ottawa Forest Supervisor will decide the following:

• Whether or not to harvest timber and, if so, identify the selection of, and site-specific location of, appropriate timber management practices (silvicultural prescription, fuels treatment, site preparation, and reforestation), road construction, reconstruction, and temporary road construction necessary to provide access to accomplish treatments, and appropriate mitigation measures.

• Whether or not to permanently close or obliterate roads and restrict motorized access, and if so, where and how.

• Whether or not to maintain permanent openings, and, if so, the location and size of openings to be maintained.

• What facilities, if any, should be constructed to enhance dispersed recreation opportunities.

• What, if any, specific project monitoring requirements would be needed to assure mitigation measures are implemented and effective.

Public Involvement and Scoping: In February 1996, initial scoping was done for the Trophy Barr timber sale, now one of the projects included in the Plantation Lakes analysis. Comments received regarding the Trophy Barr sale project proposal prior to this notice will be included in the documentation for the EIS. The public is encouraged to take part in the process by communicating or visiting with Forest Service officials at any time during the analysis and prior to the decision. The Forest Service will be seeking information, comments, and assistance from Federal, State, and local agencies, as well as other individuals or organizations who may be interested in, or affected by, the proposed action. This input will be used in preparation of the draft and final EIS. The scoping process will include:

• Identifying potential issues.

• Identifying major issues to be analyzed in depth.

• Identifying alternatives to the proposed action.

• Identifying potential environmental effects of this proposed action and the alternatives (i.e. direct, indirect, and cumulative effects and connected actions).

Estimated Dates for Filing. While public participation in this analysis is welcome at any time, comments received within 30 days of the publication of this notice will be especially useful in the preparation of the Draft EIS. The Draft EIS is expected to be filed with the Environmental Protection Agency (EPA) and to be available for public review by September, 2000. At that time EPA will publish a Notice of Availability of the draft EIS in the Federal Register. The comment period on the draft EIS will be 45 days from the date the EPA publishes the Notice of Availability in the Federal Register. It is very important that those interested in the management of this area participate at that time.

The final EIS is scheduled to be completed by March, 2001. In the final EIS, the Forest Service is required to respond to comments and responses received during the comment period that pertain to the environmental consequences discussed in the draft EIS and applicable laws, regulations, and policies considered in making a decision regarding the proposal.

Reviewer's Obligations: The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the courts. City of Angoon v. Hodel, 803 F2d 1016, 1022 (9th Cir. 1986) and Wisconsin Heritages, Inc. v. Harris, 490 F. Supp. 1334, 1338 (E.D. Wis. 1980). Because of these court rulings, it is very important that those interested in this proposed action participate by the close of the 45 day comment period so that substantive comments and objectives are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR fl503.3 in addressing these points.

Responsible Official: Phyllis A. Green, Forest Supervisor, Ottawa National Forest, E6248 U.S. 2, Ironwood, MI 49938, is the Responsible Official. As the Responsible Official she will decide if the proposed project will be implemented. She will document the decision and reasons for the decision in the Record of Decision. I have delegated the responsibility to prepare the EIS to Leanne Marten, District Ranger, Ontonagon Ranger District.

Dated: May 17, 2000.
Phyllis A. Green,
Forest Supervisor, Ottawa National Forest.

[FR Doc. 00-13027 Filed 5-25-00; 8:45 am]

BILLING CODE 3410-11-M